DEPARTMENT OF TRANSPORTATION

Federal Aviation Administration

14 CFR Part 39

[Docket No. 2003-CE-27-AD]

RIN 2120-AA64

Airworthiness Directives; Raytheon Aircraft Company Model 1900C Airplanes

AGENCY: Federal Aviation Administration (FAA), DOT.

ACTION: Notice of proposed rulemaking (NPRM).

SUMMARY: The FAA proposes to adopt a new airworthiness directive (AD) for certain Raytheon Model 1900C airplanes. This proposed AD would require you to replace the 200-amp electrical power current limiter in the landing gear with a 60-amp electrical power circuit breaker. This proposed AD is the result of reports about the inability to automatically lower the landing gear and the inability to operate other related electrical systems. The actions specified by this proposed AD are intended to prevent heat damage to the electrical wiring in and around the landing gear electrical systems components, which could result in the inability to operate critical control systems. Such failure could lead to loss of control of the airplane.

DATES: We must receive any comments on this proposed AD by January 6, 2004.

ADDRESSES: Use one of the following to submit comments on this proposed AD:

• By mail: FAA, Central Region, Office of the Regional Counsel, Attention: Rules Docket No. 2003-CE-27-AD, 901 Locust, Room 506, Kansas City, Missouri 64106.

• By fax: (816) 329-3771.

• By e-mail: 9-ACE-Docket@faa.gov. Comments sent electronically must contain “Docket No. 2003-CE-27-AD” in the subject line. If you send comments electronically as attached electronic files, the files must be formatted in Microsoft Word 97 for Windows or ASCII.

You may get the service information identified in this proposed AD from Raytheon Aircraft Company, 9709 E. Central, Wichita, Kansas 67201-0085; telephone: (800) 429-5372 or (316) 676-3140.

You may view the AD docket at FAA, Central Region, Office of the Regional Counsel, Attention: Rules Docket No. 2003-CE-27-AD, 901 Locust, Room 506, Kansas City, Missouri 64106. Office hours are 8 a.m. to 4 p.m., Monday through Friday, except Federal holidays.

FOR FURTHER INFORMATION CONTACT: Bryan Easterwood, Aerospace Engineer, Wichita Aircraft Certification Office, FAA, 1801 Airport Road, Wichita, Kansas 67209; telephone: (316) 946-4132; facsimile: (316) 946-4107.

SUPPLEMENTARY INFORMATION:

Comments Invited

How do I comment on this proposed AD? We invite you to submit any written relevant data, views, or arguments regarding this proposal. Send your comments to an address listed under ADDRESSES. Include “AD Docket No. 2003-CE-27-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD? We have received a report where the landing gear would not extend using normal operations and another report where certain electrical system components on the left generator and the center bus became inoperable.

The 200-amp current limiter, which protects the landing gear power wiring, did not operate correctly. This caused heat damage to the wiring in the landing gear power relay and surrounding electrical systems components.

The electrical system components that this condition potentially could affect include prop deice, surface deice, flaps, and left-hand windshield anti-ice.

Installing a 60-amp circuit breaker will protect the landing gear motor and associated circuitry from welding of the landing gear power relay contacts and sticking.

What are the consequences if the condition is not corrected? If not corrected, this condition could result in heat damage to the electrical wiring in and around the landing gear electrical systems components. Such a condition could lead to loss of control of the airplane.

Is there service information that applies to this subject? Raytheon has issued Mandatory Service Bulletin SB 24-2616, Rev. 1, Revised: April, 2002.

What are the provisions of this service information? The service bulletin includes procedures for incorporating a modification kit that replaces the 200-amp current limiter in the landing gear motor with a 60-amp circuit breaker.

FAA's Determination and Requirements of This Proposed AD

What has FAA decided? We have evaluated all pertinent information and identified an unsafe condition that is likely to exist or develop on other products of this same type design. Therefore, we are proposing AD action.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 25 airplanes in the U.S. registry.

What would be the cost impact of this proposed AD on owners/operators of the affected airplanes? We estimate the following costs to accomplish this proposed modification:

Labor cost | Parts cost | Total cost per airplane | Total cost on U.S. operators
12 workhours × $65 per hour = $780 | $672 | $780 + $672 = $1,452 | $1,452 × 25 = $36,300.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-27-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Raytheon Aircraft Company: Docket No. 2003-CE-27-AD

When Is the Last Date I Can Submit Comments on This Proposed AD?

(a) We must receive comments on this proposed airworthiness directive (AD) by January 6, 2004.

What Other ADs Are Affected by This Action?

(b) None.

What Airplanes Are Affected by This AD?

(c) This AD affects Model 1900C airplanes, serial numbers UB-1 through UB-35, that are certificated in any category.

What Is the Unsafe Condition Presented in This AD?

(d) This AD is the result of reports about the inability to automatically lower the landing gear and the inability to operate other related electrical systems. The actions specified in this AD are intended to prevent heat damage to the electrical wiring in and around the landing gear electrical systems components, which could result in the inability to operate critical control systems. Such failure could lead to loss of control of the airplane.

What Must I Do To Address This Problem?

(e) To address this problem, you must accomplish the following:

Actions | Compliance | Procedures
Incorporate Kit No. 114-3036-1, which replaces the 200-amp landing gear electrical power current limiter with a 60-amp circuit breaker | Within the next 600 hours time-in-service (TIS) after the effective date of this AD, unless already accomplished | In accordance with Raytheon Service Bulletin SB 24-2616, Rev. 1, Revised: April, 2002.

What About Alternative Methods of Compliance?

(f) You may request a different method of compliance or a different compliance time for this AD by following the procedures in 14 CFR 39.13. Send your request to the Manager, Wichita Aircraft Certification Office (ACO), FAA. For information on any already approved alternative methods of compliance, contact Bryan Easterwood, Aerospace Engineer, Wichita ACO, FAA, 1801 Airport Road, Wichita, Kansas 67209; telephone: (316) 946-4132; facsimile: (316) 946-4107.

How Do I Get Copies of the Documents Referenced in This AD?

(g) You may get copies of the documents referenced in this AD from Raytheon Aircraft Company, 9709 E. Central, Wichita, Kansas 67201-0085; telephone: (800) 429-5372 or (316) 676-3140. You may view these documents at FAA, Central Region, Office of the Regional Counsel, 901 Locust, Room 506, Kansas City, Missouri 64106.

Issued in Kansas City, Missouri, on October 30, 2003.
James E. Jackson,
Acting Manager, Small Airplane Directorate, Aircraft Certification Service.

[FR Doc. 03-27798 Filed 11-4-03; 8:45 am]

BILLING CODE 4910-13-P